ENVIRONMENTAL PROTECTION AGENCY

[FRL-7051-5]

Underground Injection Control Program; Hazardous Waste Injection Restrictions; Petition for Exemption—Class I Hazardous Waste Injection; Ticona Polymers, Inc.

AGENCY: Environmental Protection Agency (EPA).

ACTION: Notice of final decision on no migration petition reissuance.

SUMMARY: Notice is hereby given that an exemption to the land disposal restrictions under the 1984 Hazardous and Solid Waste Amendments to the Resource Conservation and Recovery Act has been granted to Ticona Polymers, Inc. (Ticona) for three Class I injection wells located at Bishop, Texas. As required by 40 CFR part 148, the company has adequately demonstrated to the satisfaction of the Environmental Protection Agency by the petition and supporting documentation that, to a reasonable degree of certainty, there will be no migration of hazardous constituents from the injection zone for as long as the waste remains hazardous. This final decision allows the underground injection by Ticona, of the specific restricted hazardous wastes identified in the exemption, into Class I hazardous waste injection wells Nos. WDW-210, WDW-211, and WDW-212 at the Bishop, Texas facility, until December 31, 2020. As required by 40 CFR 148.22(b) and 124.10, a public notice of the proposed no migration exemption decision was issued June 28, 2001. The public comment period began on June 28, 2001 and closed on August 13, 2001. No comments were received. This decision constitutes final Agency action and there is no Administrative appeal. This decision may be judicially reviewed under the Federal Administrative Procedure Act, 5 U.S.C. 704.

DATES: This action is effective as of August 28, 2001.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7165.

Sam Becker,
Acting Division Director, Water Quality Protection Division.

[FR Doc. 01-22745 Filed 9-10-01; 8:45 am]

BILLING CODE 6560-50-P